DEPARTMENT OF DEFENSE

Department of the Army, Corps of Engineers

Notice of a Public Meeting for The Great Lakes and Mississippi River Interbasin Study—Brandon Road Draft Integrated Feasibility Study and Environmental Impact Statement—Will County, Illinois and Extension of Public Comment Period

AGENCY: Department of the Army, U.S. Army Corps of Engineers, DoD.

ACTION: Public meeting and extension of public comment period.

SUMMARY: The Rock Island and Chicago Districts, U.S. Army Corps of Engineers (USACE), will host a public meeting in New Orleans, Louisiana to discuss the draft report titled The Great Lakes and Mississippi River Interbasin Study—Brandon Road Draft Integrated Feasibility Study and Environmental Impact Statement—Will County, Illinois and receive input regarding this study.

DATES: The meeting will be held on December 5, 2017, from 1:00 to 4:00 p.m. in New Orleans, Louisiana. USACE is also extending the public comment period for the original notice that published in the Federal Register on September 27, 2017 (82 FR 45008) until December 8, 2017.

ADDRESSES: The meeting will be held at USACE, New Orleans District, 7400 Leake Ave, New Orleans, Louisiana, 70118.

FOR FURTHER INFORMATION CONTACT: Andrew Leichty, Program Manager, by mail: U.S. Army Corps of Engineers, Rock Island District, Clock Tower Building (ATTN: Leichty), P.O. Box 2004, Rock Island, IL 61204-2004, by phone: 309-794-5399; or by email: Andrew.L.Leichty@usace.army.mil.

SUPPLEMENTARY INFORMATION: Web Participation: A Facebook Live format web audio/video broadcast will be available for the meeting. Visit http://glmris.anl.gov/brandon-rd/ for details on how to participate in these virtual meetings. Phone and web conference access is as follows: Phone: Toll-Free: 877-848-7030, access code 9079541, security code 1111, Web Conference URL: https://www.webmeeting.att.com, Meeting number 877-848-7030, Access Code 9079541.

Written comments are accepted until December 8, 2017. Written comments may be submitted in the following ways:

Mail and Hand Delivery: to U.S. Army Corps of Engineers, Chicago District, ATTN: GLMRIS-Brandon Road Comments, 231 S. LaSalle St., Suite 1500, Chicago, IL 60604. Comments must be postmarked by December 8, 2017 GLMRIS Project Web site: Use the web comment function found at http://glmris.anl.gov.

A Facebook Live participants can use the “Live Chat” feature. However, these comments will not be recorded in the official record.

The draft report/EIS and additional information regarding this meeting can be found at http://glmris.anl.gov/brandon-rd/.

Authority: This action is being undertaken pursuant to the Water Resources and Development Act of 2007, Section 3061(d), Public Law 110-114 and the National Environmental Policy Act of 1969 (NEPA), 42 U.S.C. 4321, et seq., as amended.

Dated: November 15, 2017.
Andrew Barnes,
Assistant Chief, Programs and Project Management Division.

[FR Doc. 2017-25272 Filed 11-21-17; 8:45 am]

BILLING CODE 3720-58-P